DEPARTMENT OF COMMERCE

National Oceanic and Atmospheric Administration

RIN 0648-XC307

North Pacific Fishery Management Council (NPFMC); Public Meeting

AGENCY: National Marine Fisheries Service (NMFS), National Oceanic and Atmospheric Administration (NOAA), Commerce.

ACTION: Notice of a public committee meeting.

SUMMARY: The North Pacific Fishery Management Council's (Council) Steller Sea Lion Mitigation Committee (SSLMC) will meet in Juneau, AK.

DATES: The meeting will be held November 7-9, 2012, from 8:30 a.m. through 5 p.m. AST.

ADDRESSES: The meeting will be held in the 4th floor conference room at the Federal Building at 700 West 9th Street, Juneau, AK.

Council address: North Pacific Fishery Management Council, 605 W. 4th Ave., Suite 306, Anchorage, AK 99501-2252.

FOR FURTHER INFORMATION CONTACT: Steve MacLean, NPFMC; telephone: (907) 271-2809.

SUPPLEMENTARY INFORMATION: At this meeting the SSLMC will be reviewing proposals for alternatives to be considered in the 2012 Steller Sea Lion Protection Measures EIS currently being prepared by NMFS. The SSLMC will begin drafting one or more alternatives for delivery to the Council in December, 2012. Proposals under consideration will be posted on the Council's Web site at http://www.alaskafishries.noaa.gov/npfmc/conservation-issues/ssl.html. Please note that State or Federal ID will be required to enter the Federal Building in Juneau. Foreign nationals wishing to attend this meeting in person should contact the Council as soon as possible to expedite security clearance at the Federal Building in Juneau.

Additional information is posted on the Council Web site: http://www.alaskafisheries.noaa.gov/npfmc/. The meeting will be webcast to allow the public to watch and hear presentations. Comments will not be accepted via webcast or teleconference.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, (907) 271-2809, at least 5 working days prior to the meeting date.

Dated: October 17, 2012.
Tracey L. Thompson,
Acting Deputy Director, Office of Sustainable Fisheries, National Marine Fisheries Service.

[FR Doc. 2012-25876 Filed 10-19-12; 8:45 am]

BILLING CODE 3510-22-P